DEPARTMENT OF TRANSPORTATION

Federal Highway Administration

Environmental Impact Statement: Pottawattamie County, IA and Douglas County, NE

AGENCY: Federal Highway Administration (FHWA), DOT.

ACTION: Notice of intent.

SUMMARY: The FHWA is issuing this notice to advise the public that an Environmental Impact Statement will be prepared for a proposed bridge project between Pottawattamie County, Iowa, and Douglas County, Nebraska.

FOR FURTHER INFORMATION CONTACT: Mr. Edward Kosola, Realty/Environmental Officer, Federal Highway Administration, Federal Building, Room 220, 100 Centennial Mall North, Lincoln, Nebraska 68508, Telephone: (402) 437-5765. Mr. Arthur Yonkey, Planning and Project Development Engineer, Nebraska Department of Roads, P.O. Box 94759, Lincoln, Nebraska 68509, Telephone: (402) 479-4795. Mr. James Rost, Office of Environmental Services, Iowa Department of Transportation, 800 Lincoln Way, Ames, Iowa 50010, Telephone: (515) 239-1798.

SUPPLEMENTARY INFORMATION: The FHWA, in cooperation with the Nebraska Department of Roads, and the Iowa Department of Transportation, will prepare an Environmental Impact Statement (EIS) for a proposal to construct a bridge over the Missouri River. The proposed project would connect Pottawattamie County, Iowa and Douglas County, Nebraska, in the vicinity of Omaha, Nebraska.

Alternatives under consideration include: (1) Taking no action; (2) rehabilitaiton or replacing the US-275 Bridge on the existing alignment; and (3) providing a new crossing adjacent to the existing alignment.

The South Omaha Veterans Memorial Bridge (Highway US-275 Bridge) has been listed on the National Register of Historic Places. The existing bridge is a multiple span structure approximately 4,380 feet long with a 22.2 foot driving surface. The main bridge section is a 2-span, continuous Warren through truss about 1,050 feet long.

An agency scoping meeting and a public scoping/information meeting are planned. A Draft EIS will be prepared and a public hearing will be held. Public notice will be given of the public scoping/information meeting and public hearing.

To ensure that the full range of issues related to this proposed action are addressed and all significant issues identified, comments and suggestions are invited from all interested parties. Comments or questions concerning this proposed action and the EIS should be directed to the FHWA or the Nebraska Department of Roads at the address provided.

(Catalog of Federal Domestic Assistance Project Number 20.205, Highway Planning and Construction. The regulations implementing Executive Order 12372 regarding intergovernmental consultation on Federal programs and activities apply to this program)

Issued on: February 26, 2002.
Edward Kosola,
Realty/Environmental Officer, Nebraska Divsion, Federal Highway Administration, Lincoln, Nebraska.

[FR Doc. 02-5087 Filed 3-1-02; 8:45 am]

BILLING CODE 4910-22-M